INTERNATIONAL TRADE COMMISSION

[Investigation No. 337-TA-954]

Certain Variable Valve Actuation Devices and Automobiles Containing the Same; Commission Determination Not To Review an Initial Determination Terminating the Investigation; Termination of the Investigation

AGENCY: U.S. International Trade Commission.

ACTION: Notice.

SUMMARY: Notice is hereby given that the U.S. International Trade Commission has determined not to review the presiding administrative law judge's (“ALJ”) initial determination (“ID”) (Order No. 16) terminating the above-captioned investigation. The Commission has determined to terminate the investigation.

FOR FURTHER INFORMATION CONTACT: Clint Gerdine, Office of the General Counsel, U.S. International Trade Commission, 500 E Street SW., Washington, DC 20436, telephone (202) 708-2310. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 14, 2015, based on an amended complaint filed by Jacobs Vehicle Systems, Inc. of Bloomfield, Connecticut. 80 FR 20012 (Apr. 14, 2015). The complaint alleged violations of section 337 of the Tariff Act of 1930, as amended, 19 U.S.C. 1337, by reason of infringement of certain claims of U.S. Patent Nos.: 6,474,277; 6,883,492 (“the '492 patent”); 5,829,397 (“the '397 patent”); 8,776,738; 8,820,276 (“the '276 patent”); and 7,059,282 (“the '282 patent”). The complaint further alleged that a domestic industry exists or is in the process of being established. The Commission's Notice of Investigation named the following respondents: Fiat Chrysler Automobiles N.V. (“Fiat”) of Slough, United Kingdom; FCA US LLC of Auburn Hills, Michigan; FCA Mexico, S.A. de C.V. of Sante Fe, Mexico; FCA Melfi S.p.A. of Melfi, Italy; and FCA Serbia d.o.o. Kragujevac of Kragujevac, Serbia. The Office of Unfair Import Investigations is not participating in the investigation. Respondent Fiat and the following patents and patent claims were later terminated from the investigation: (1) The '397 patent (ALJ's Order No. 6, unreviewed, Comm'n Notice Aug. 18, 2015); (2) the '492 patent (ALJ's Order No. 8, unreviewed, Comm'n Notice Oct. 26, 2015); (3) Claims 3, 5, 13-16, 18-19, 22, 35-36, 38-44, 46-48, 50, and 54-56 of the '738 patent; claims 1-5, 7, 10, 19-23, and 26-28 of the '276 patent; and Fiat (see ALJ's Order No. 13, unreviewed, Comm'n Notice Dec. 21, 2015); and (4) the '282 patent (see ALJ's Order No. 15, unreviewed, Comm'n Notice Jan. 29, 2016).

On January 6, 2016, complainant moved for termination of the investigation based on withdrawal of the complaint. No party opposed the motion.

On January 7, 2016, the ALJ issued the subject ID (Order No. 16) granting complainant's motion and finding that the motion for termination satisfies Commission Rule 210.21(a)(1) and that no “extraordinary circumstances” exist that would preclude granting the motion. No party petitioned for review of the ID.

The Commission has determined not to review the ID and the Commission has terminated the investigation.

The authority for the Commission's determination is contained in section 337 of the Tariff Act of 1930, as amended (19 U.S.C. 1337), and in part 210 of the Commission's Rules of Practice and Procedure (19 CFR part 210).

By order of the Commission.
Dated: January 29, 2016.
Lisa R. Barton,
Secretary to the Commission.

[FR Doc. 2016-02018 Filed 2-3-16; 8:45 am]

BILLING CODE 7020-02-P